INTERNATIONAL TRADE COMMISSION

[Investigation No. 337-TA-1060]

Certain Consumer Electronic Devices, Including Televisions, Gaming Consoles, Mobile Phones and Tablets, and Network-Enabled DVD and Blu-Ray Players; Termination of Investigation on the Basis of Settlement

AGENCY: U.S. International Trade Commission.

ACTION: Notice.

SUMMARY: Notice is hereby given that the U.S. International Trade Commission has determined not to review the presiding administrative law judge's (“ALJ”) initial determination (“ID”) (Order No. 27), which terminated the investigation on the basis of settlement.

FOR FURTHER INFORMATION CONTACT: Sidney A. Rosenzweig, Office of the General Counsel, U.S. International Trade Commission, 500 E Street SW, Washington, DC 20436, telephone (202) 708-2532. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission TDD terminal on (202) 205-1810.

SUPPLEMENTARY INFORMATION: The Commission instituted this investigation on June 13, 2017, based upon a complaint filed by ARRIS Enterprises LLC of Sewanee, Georgia (“ARRIS”). 82 FR 27078 (June 13, 2017). The complaint alleged violations of section 337 of the Tariff Act of 1930, as amended (19 U.S.C. 1337), in the importation into the United States, the sale for importation, or the sale within the United States after importation of certain consumer electronic devices, including televisions, gaming consoles, mobile phones and tablets, and network-enabled DVD and Blu-ray players by reason of the infringement of certain claims of U.S. Patent No. 6,473,858; U.S. Patent No. 6,934,148; U.S. Patent No. 7,113,502; U.S. Patent No. 7,752,564; U.S. Patent No. 8,300,156; and U.S. Patent No. 9,521,466. The notice of investigation named as respondents: Sony Corporation of Tokyo, Japan; Sony Corporation of America, of New York, New York; Sony Electronics Inc. of San Diego, California; Sony Interactive Entertainment, Inc. of Tokyo, Japan; as well as Sony Mobile Communications (USA), Inc., Sony Interactive Entertainment LLC, and Sony Interactive Entertainment America LLC, each of San Mateo, California (collectively, “Sony”). The Office of Unfair Import Investigations was also named as a party.

On December 15, 2017, ARRIS and Sony filed a joint motion to terminate the investigation in view of a patent cross license agreement between the parties that settles this investigation. On December 18, 2017, the Commission investigative attorney responded in support of the motion.

On December 20, 2017, the presiding ALJ granted the motion as the subject ID. The ID finds that the motion complies with Commission Rules, and that granting the motion is not contrary to the public interest. ID at 1-3; see 19 CFR 210.21(b), 210.50(b)(2).

No petitions for review of the ID were filed. The Commission has determined not to review the ID.

The authority for the Commission's determination is contained in section 337 of the Tariff Act of 1930, as amended (19 U.S.C. 1337), and in Part 210 of the Commission's Rules of Practice and Procedure (19 CFR part 210).

By order of the Commission.
Issued: January 18, 2018.
Lisa R. Barton,
Secretary to the Commission.

[FR Doc. 2018-01155 Filed 1-22-18; 8:45 am]

BILLING CODE 7020-02-P